NATIONAL AERONAUTICS AND SPACE ADMINISTRATION

[Notice: (11-100)]

NASA Advisory Council; Meeting

AGENCY: National Aeronautics and Space Administration.

ACTION: Notice of meeting cancellation.

SUMMARY: In accordance with the Federal Advisory Committee Act, Public Law 92-463, as amended, the National Aeronautics and Space Administration announces that the meeting of the NASA Advisory Council scheduled to be held at NASA Goddard Space Flight Center in Greenbelt, Maryland, on November 3-4, 2011, has been postponed due to scheduling conflict. It will be rescheduled in the future.

FOR FURTHER INFORMATION CONTACT: Ms. Marla King, NAC Administrative Officer, National Aeronautics and Space Administration, Washington, DC 20546, 202/358-1148.

Dated: October 18, 2011.
P. Diane Rausch,
Advisory Committee Management Officer, National Aeronautics and Space Administration.

[FR Doc. 2011-27311 Filed 10-20-11; 8:45 am]

BILLING CODE 7510-13-P